DEPARTMENT OF TRANSPORTATION

Federal Highway Administration

Notice of Final Federal Agency Actions on Proposed Highway in California

AGENCY: Federal Highway Administration (FHWA), DOT.

ACTION: Notice of limitation on claims for judicial review of actions by the California Department of Transportation (Caltrans), pursuant to 23 U.S.C. 327.

SUMMARY: The FHWA, on behalf of Caltrans, is issuing this notice to announce actions taken by Caltrans that are final within the meaning of 23 U.S.C. 139(l)(1). The actions relate to a proposed highway project, the Cold Spring Canyon Bridge Suicide Barrier project on State Route 154 at Cold Spring Canyon Bridge, 05-SB-154-PM 22.9/23.1, in the County of Santa Barbara, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before January 6, 2010. If the Federal law that authorizes judicial review of a claim provides a time period of less than 180 days for filing such claim, then that shorter time period still applies.

FOR FURTHER INFORMATION CONTACT: For Caltrans: Matt Fowler, Chief, Environmental Branch, Caltrans, 50 Higuera Street, San Luis Obispo, CA 93401 Monday through Friday 8 a.m. to 5 p.m. (805) 542-4603 or matt_c_fowler@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans has taken final agency actions subject to 23 U.S.C. 139(l)(1) by issuing licenses, permits, and approvals for the following highway project in the State of California. The project includes the installation of a physical suicide barrier on each side of the Cold Spring Canyon Bridge, on State Route 154 near San Marcos Pass in Santa Barbara County. The bridge spans a distance of over 1,200 feet in length and is more than 400 feet in height. The purpose of the proposed project is to: (1) Reduce the number of suicides at the Cold Spring Canyon Bridge resulting from individuals jumping off the bridge, and (2) Reduce the exposure to risks for emergency personnel such as law enforcement officers or search and rescue teams when attempting to prevent persons from jumping off of the bridge, and reduce the number of recoveries that need to be performed following a suicide jump from the bridge. The actions by the Federal agencies, and the laws under which such actions were taken, are described in the Environmental Assessment/Finding of No Significant Impact (EA/FONSI) for the project, approved on June 22, 2009, and in other documents in the FHWA project records. The EA/FONSI and other project records are available by contacting Caltrans at the address provided above. The Caltrans EA/FONSI can be viewed and downloaded from the Caltrans Web site at http://www.dot.ca.gov/dist05/projects/sb_cold_springs/eir09june.pdf and also viewed at public libraries in the project area.

This notice applies to all Federal agency decisions as of the issuance date of this notice and all laws under which such actions were taken, including but not limited to:

1. General: National Environmental Policy Act (NEPA) [42 U.S.C. 4321-4351].

2. Historic and Cultural Resources: National Historic Preservation Act of 1966, as amended (NHPA), 16 U.S.C. 470 and United States Department of Transportation Act of 1966 (Section 4[f]), 49 USC 303.

3. Executive Orders: E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: July 6, 2009.
Cindy Vigue,
Director, State Programs, Federal Highway Administration, Sacramento, California.

[FR Doc. E9-16331 Filed 7-9-09; 8:45 am]

BILLING CODE 4910-RY-P